DEPARTMENT OF THE INTERIOR

Bureau of Land Management

[LLWO260000.L10600000.PC0000.LXSIADVSBD00.17X]

Wild Horse and Burro Advisory Board Meeting

AGENCY: Bureau of Land Management, Interior.

ACTION: Notice of advisory board meeting.

SUMMARY: In accordance with the Federal Land Policy and Management Act of 1976 and the Federal Advisory Committee Act of 1972, the U.S. Department of the Interior, Bureau of Land Management's (BLM) Wild Horse and Burro Advisory Board (Advisory Board) will meet as indicated below.

DATES: The Advisory Board will hold a public meeting on Wednesday and Thursday, October 18 and 19, 2017, from 8 a.m. to 5 p.m. Mountain Time (MT) each day. A field tour will be held on Tuesday, October 17, 2017, from 8 a.m. to 5 p.m. MT.

ADDRESSES: The Advisory Board will meet at the Grand Vista Hotel, 2790 Crossroads Blvd., Grand Junction, CO 81506; hotel Web site: http://www.grandvistahotel.com/; hotel phone: 970-241-8411 or 1-800-800-7796. The field tour will depart from the hotel lobby.

Written comments pertaining to the October 18-19, 2017, Advisory Board meeting and written statements that will be presented to the board can be mailed to the National Wild Horse and Burro Program,WO-260, Attention: Ramona DeLorme, 1340 Financial Boulevard, Reno, NV 89502-7147, or emailed to: whbadvisoryboard@blm.gov. Please include “Advisory Board Comment” in the subject line of the email.

FOR FURTHER INFORMATION CONTACT: Ramona DeLorme, Wild Horse and Burro Administrative Assistant, at 775-861-6583, or by email at rdelorme@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The Advisory Board advises the Secretary of the Interior, the BLM Director, the Secretary of Agriculture, and the Chief of the U.S. Forest Service on matters pertaining to the management and protection of wild, free-roaming horses and burros on the Nation's public lands. The Advisory Board operates under the authority of 43 CFR 1784. The tentative agenda for the meeting is:

I. Advisory Board Public Meeting

Tuesday, October 17, 2017 (8 a.m.-5 p.m.)

Field Tour of the Little Book Cliffs Herd Management Area.

The field tour is open to limited public attendance on a first-come, first-served advance sign up. Attendees must provide for their own transportation (high-clearance vehicle recommended) and personal needs. To sign up, contact Dorothea Boothe by email at dboothe@blm.gov.

Wednesday, October 18, 2017 (8 a.m.-5:00 p.m.)

Welcome, Introductions, and Agenda Review

Advisory Board September Meeting Minutes Review/Approval

BLM Responses to Advisory Board Recommendations from September 2016 Meeting

Wild Horse and Burro Program Overview and Status

Science Presentations

Public Comment Period (3 p.m.-5 p.m.)

Adjourn

Thursday, October 19, 2017 (8 a.m.-5 p.m.)

Welcome, Introductions, and Agenda Review

What are the Key Elements of a Sustainable Wild Horse and Burro Program?

Advisory Board Discussion and Recommendations to the BLM

Adjourn

The meeting will be live-streamed at www.blm.gov/live. The meeting site is accessible to individuals with disabilities. An individual with a disability needing an auxiliary aid or service to participate in the meeting, such as an interpreting service, assistive listening device, or materials in an alternate format, must notify Ms. DeLorme 2 weeks before the scheduled meeting date, see the FOR FURTHER INFORMATION CONTACT section above. Although the BLM will attempt to meet a request received after that date, the requested auxiliary aid or service may not be available because of insufficient time to arrange for it.

II. Public Comment Procedures

On Wednesday, October 18, from 3 p.m. to 5 p.m., members of the public will have the opportunity to make comments to the Advisory Board on the Wild Horse and Burro Program. Persons wishing to make comments during the meeting should register in person with the BLM prior to 3 p.m. on October 18, at the meeting location. Depending on the number of commenters, the Advisory Board may limit the length of comments. At previous meetings, comments have been limited to 3 minutes in length; however, this time may vary. Speakers are requested to submit a written copy of their statement to the address listed in the ADDRESSES section above, or bring a written copy to the meeting. There may be a webcam present during the entire meeting and individual comments may be recorded.

Participation in the Advisory Board meeting does not require the submission of written comments. The BLM invites written comments from all interested parties. Your written comments should be specific and explain the reason for any recommendation. The BLM considers comments that are either supported by quantitative information or studies, or those that include citations to and analysis of applicable laws and regulations, to be the most useful and likely to influence the BLM's decisions on the management and protection of wild horses and burros.

Before including your address, phone number, email address, or other personal identifying information in your comment, you should be aware that your entire comment—including your personal identifying information—may be made publicly available at any time. While you can ask in your comment that the BLM withhold your personal identifying information from public review, the BLM cannot guarantee that it will be able to do so.

Authority: 43 CFR 1784.4-2

Kristin Bail,
Assistant Director, Resources and Planning.

[FR Doc. 2017-20935 Filed 9-29-17; 8:45 am]

BILLING CODE 4310-84-P